DEPARTMENT OF ENERGY

Federal Energy Regulatory Commission

[ Docket No. IS04-179-000]

Texaco Petrochemical Pipeline LLC; Notice Requesting Briefs

March 16, 2004.

On February 27, 2004, the Commission issued an order in the above captioned docket requesting briefs on a jurisdictional issue raised by Texaco Petrochemical Pipeline's proposal to cancel its tariff for the transportation of ethylene. See Texaco Petrochemical Pipeline LLC, 106 FERC ¶ 61,186 (2004). Specifically, the Commission requested briefs on whether the Commission has jurisdiction over the transportation of ethylene by oil pipelines. Initial briefs were due 30 days after the February 27th Order issued. Since the 30th day falls on March 28, 2004, a Sunday, interested parties must intervene and file initial briefs no later than March 29, 2004. Reply briefs are due April 8, 2004, thereafter.

Magalie R. Salas,
Secretary.

[FR Doc. E4-647 Filed 3-22-04; 8:45 am]

BILLING CODE 6717-01-P